DEPARTMENT OF HEALTH AND HUMAN SERVICES

Centers for Medicare & Medicaid Services

[Document Identifier: CMS-10001 and CMS-10009]

Emergency Clearance: Public Information Collection Requirements Submitted to the Office of Management and Budget (OMB)

Agency: Center for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because of an unanticipated event.

Department regulations in 45 CFR 146.121(i)(4) require that if coverage has been denied to any individual because the sponsor of a self-funded non-Federal governmental plan has elected under 45 CFR part 146 to exempt the plan from the requirements of § 146.121, and the plan sponsor subsequently chooses to bring the plan into compliance, the plan must: Notify the individual that the plan will be coming into compliance; afford the individual an opportunity to enroll that continues for at least 30 days; specify the effective date of compliance; and inform the individual regarding any enrollment restrictions that may apply once the plan is in compliance.

The burden associated with this requirement was approved by The Office of Management and Budget (OMB) under OMB control number 0938-0827. However, this OMB control number was inadvertently discontinued prior to its renewal date. CMS is seeking the re-instatement of this control number as none of the requirements have changed. In accordance with the Paperwork Reduction Act of 1995, the reinstatement request will be addressed in an emergency information collection request. In addition, CMS-2078-P (66 FR 1421) describes bona fide wellness programs. Section 146.121(f)(1)(iv) stipulates that the plan or issuer disclose in all plan materials describing the terms of the program the availability of a reasonable alternative standard to qualify for the reward under a wellness program. However, in plan materials that merely mention that a program is available, without describing its terms, the disclosure is not required.

The burden associated with this requirement was approved by The Office of Management and Budget (OMB) under OMB control number 0938-0819. However, this OMB control number was inadvertently discontinued prior to its renewal date. CMS is seeking the re-instatement of this control number as none of the requirements have changed. In accordance with the Paperwork Reduction Act of 1995, the reinstatement request will be addressed in an emergency information collection request.

1. Type of Information Collection Request: Reinstatement, without change, of a previously approved collection for which approval has expired; Title of Information Collection: Health Insurance Portability and Accountability Act (HIPAA) Nondiscrimination Provisions (66 FR 1378); Use: Section 2702 of the Public Health Service Act (PHS Act-the HIPAA nondiscrimination provisions) established rules generally prohibiting group health plans and group health insurance issuers from discriminating against individual participants or beneficiaries based on any health factor of such participants or beneficiaries. Self-funded, non-Federal governmental plans are required to give individuals who were previously discriminated against an opportunity to enroll, including a notice of an opportunity to enroll. Plan participants and their dependents need this information to understand their rights under HIPAA.; Form Number: CMS-10001 (OMB#: 0938-0827); Frequency: Annually; Affected Public: State, Local, or Tribal governments, Individuals or Households, Business or other for-profit, and Not-for-profit institutions; Number of Respondents: 18; Total Annual Responses: 18; Total Annual Hours: 194.

2. Type of Information Collection Request: Reinstatement, without change, of a previously approved collection for which approval has expired; Title of Information Collection: Health Insurance Portability and Accountability Act (HIPAA) Nondiscrimination Provisions (66 FR 1421); Use: Section 2702 of the Public Health Service Act (PHS Act-the HIPAA nondiscrimination provisions) establish rules generally prohibiting group health plans and group health insurance issuers from discriminating against individual participants or beneficiaries based on any health factor of such participants or beneficiaries. Plan participants and their dependents need this information to understand the rights they have under HIPAA. States and the Federal government need the information supplied by issuers to properly perform their regulatory functions.; Form Number: CMS-10009 (OMB# 0938-0819); Frequency: Annually; Affected Public: State, Local, or Tribal governments, Individuals or Households, Business or other for-profit, and Not-for-profit institutions; Number of Respondents: 2600; Total Annual Responses: 2600; Total Annual Hours: 100.

CMS is requesting OMB review and approval of these collections by September 16, 2005, with a 180-day approval period. Written comments and recommendation will be considered from the public if received by the individuals designated below by September 12, 2005.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed to the designees referenced below by September 12, 2005:

Centers for Medicare & Medicaid Services, Office of Strategic Operations and Regulatory Affairs, Room C4-26-05, 7500 Security Boulevard, Baltimore, MD 21244-1850, Attn: William N. Parham, III, and, OMB Human Resources and Housing Branch, Attention: Christopher Martin, New Executive Office Building, Room 10235, Washington, DC 20503.

Dated: August 5, 2005.
Michelle Shortt,
Director, Regulations Development Group, Office of Strategic Operations and Regulatory Affairs.

[FR Doc. 05-15975 Filed 8-11-05; 8:45 am]

BILLING CODE 4120-01-P